DEPARTMENT OF THE INTERIOR

Minerals Management Service

Completion of a Multi-Project Environmental Assessment To Evaluate the Potential Environmental Impacts Associated With the Removal of Sand Resources From Ship Shoal, Outer Continental Shelf, Offshore Central Louisiana

AGENCY: Minerals Management Service, Interior.

ACTION: Availability of an environmental assessment.

SUMMARY: The Minerals Management Service (MMS) has completed an environmental assessment (EA) which examines the potential effects on the marine and coastal environments from using sand from Ship Shoal, a sand shoal located approximately 10 miles south of Isle Dernieres, offshore the central coast of Louisiana. Geological and geophysical studies of Ship Shoal have determined that the shoal's sand is an ideal source of material to place on the rapidly eroding Louisiana barrier islands. Several coastal restoration and storm protection projects that propose to use sand from Ship Shoal are already in the planning stages. Comments on a preliminary version of the EA were submitted by the Louisiana Department of Natural Resources (LDNR), the U.S. Environmental Protection Agency (EPA), the U.S. Army Corps of Engineers (USACE), and the National Oceanic and Atmospheric Administration. These comments were considered during completion of the final document.

The MMS concludes that the proposed action to dredge and emplace the proposed amount of sand from Ship Shoal will not significantly affect the quality of the human environment (40 CFR 1508.27) and preparation of an environmental impact statement is not required. Mitigation will be necessary to ensure environmental protection, consistent environmental policy, and safety as required by the National Environmental Policy Act, as amended, or to avoid or minimize any possible adverse effects on the quality of the human environment. Mitigation includes:

• Requiring stipulations to protect sea turtles when it is determined that there is a likelihood of sea turtle presence within the area during a dredging operation, and a trailing suction hopper dredge is used.

• Avoiding potential historic archaeological site locations identified in both the Ship Shoal and South Pelto areas through a remote sensing survey conducted previously.

• Sampling and monitoring dredge material from within both the Ship Shoal and South Pelto areas to identify and protect possible prehistoric resources located within the borrow sites.

• Establishing a minimum “no dredge” setback distance of 1000 feet from existing pipelines.

• Requiring the use of an electronic positioning system on the dredge vessels and transmittal of location and production information to the MMS.

FOR FURTHER INFORMATION CONTACT: Minerals Management Service, Leasing Division, Marine Minerals Branch, 381 Elden Street, Mail Stop 4010, Herndon, Virginia 20170, Mr. Barry Drucker, telephone (703) 787-1296, e-mail: barry.drucker@mms.gov.

SUPPLEMENTARY INFORMATION: Louisiana's coastal land loss problem continues at a rate of more than 30 square miles per year severely affecting the storm buffering capacity and the protection that nearshore barrier islands provide to human populations, oil and gas infrastructure, inland bays, estuaries, and wetlands. The bays inshore of the islands are huge estuaries where fresh and saltwater mix, and most of Louisiana's commercial and recreational fisheries depend on them during parts of their life cycle. Without barrier islands, coastal fisheries will experience significant adverse impacts. The entire Isle Dernieres chain in offshore central Louisiana, a critical component of the Louisiana barrier island system, is projected to be lost by the year 2010. A study by the Coastal Wetlands Planning, Protection and Restoration Act task force recommended returning Isles Dernieres and the Timbalier Islands to 1992 conditions (pre-Hurricane Andrew), which would require adding sand to build them to a width of about 1,230 feet wide and 8-9 feet above sea level. The current overall strategy is to restore the island chains to a condition suitable for providing coastal protection and for maintaining the integrity of the estuarine system.

Geological and geophysical studies of Ship Shoal indicate that very significant similarities exist among the properties of Ship Shoal and the nearby barrier islands. Ship Shoal sand is considered to be ideal material for use in restoration and nourishment projects along the Louisiana coast within the Terrebonne and Barataria Basins. Resource estimates for the volumes of sand comprising Ship Shoal are 1.2 billion cubic meters.

The MMS has already been notified by LDNR and the EPA that they will seek leases for the use of Ship Shoal sand for planned projects at Whiskey Island and New Cut, Louisiana. In addition, the USACE is considering using Ship Shoal sand as a base for the levee system for the Morganza to the Gulf Hurricane Protection Project. Besides these efforts, MMS anticipates that Ship Shoal will serve as a long-term source of material for further Louisiana coastal restoration efforts well into the future.

Public Law 103-426, enacted October 31, 1994, gave the MMS the authority to convey, on a noncompetitive basis, the rights to Federal sand, gravel, or shell resources for shore protection, beach or wetlands restoration projects, or for use in construction projects funded in whole or part or authorized by the Federal government.

Public Comments

The MMS encourages interested parties to submit comments specific to the EA and the environmental issues related to the removal of sand from Ship Shoal. Comments should be sent to Minerals Management Service, Leasing Division, Attention: Chief, Marine Minerals Branch, 381 Elden Street, Mail Stop 4010, Herndon, Virginia 20170. In addition, comments may be sent via e-mail to barry.drucker@mms.gov.

Dated: April 22, 2004.
Thomas Readinger,
Associate Director for Offshore Minerals Management.

[FR Doc. 04-15167 Filed 7-2-04; 8:45 am]

BILLING CODE 4310-MR-P